SMALL BUSINESS ADMINISTRATION

[Disaster Declaration # 10881 and # 10882]

South Dakota Disaster # SD-00012

AGENCY: U.S. Small Business Administration.

ACTION: Notice.

SUMMARY: This is a Notice of the Presidential declaration of a major disaster for the State of South Dakota (FEMA-1702-DR), dated 5/22/2007.

Incident: Severe Storms, Tornadoes and Flooding.

Incident Period: 5/4/2007 and continuing.

DATES: Effective Date: 5/22/2007.

Physical Loan Application Deadline Date: 7/23/2007.

Economic Injury (EIDL) Loan Application Deadline Date: 2/22/2008.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: Notice is hereby given that as a result of the President's major disaster declaration on 5/22/2007, applications for disaster loans may be filed at the address listed above or other locally announced locations.

The following areas have been determined to be adversely affected by the disaster:

Primary Counties (Physical Damage and Economic Injury Loans):

Beadle, Brown, Clark, Davison, Hanson, Hutchinson, Miner, Sanborn, Spink, Yankton.

Contiguous Counties (Economic Injury Loans Only):

South Dakota: Aurora, Bon Homme, Charles Mix, Clay, Codington, Day, Douglas, Edmunds, Faulk, Hamlin, Hand, Jerauld, Kingsbury, Lake, Marshall, McCook, McPherson, Turner.

North Dakota: Dickey, Sargent.

Nebraska: Cedar, Knox.

The Interest Rates are:

| Percent
For Physical Damage:
Homeowners With Credit Available Elsewhere | 5.750
Homeowners Without Credit Available Elsewhere | 2.875
Businesses With Credit Available Elsewhere | 8.000
Other (Including Non-Profit Organizations) With Credit Available Elsewhere | 5.250
Businesses and Non-Profit Organizations Without Credit Available Elsewhere | 4.000
For Economic Injury:
Businesses and Small Agricultural Cooperatives Without Credit Available Elsewhere | 4.000

The number assigned to this disaster for physical damage is 10881 B and for economic injury is 108820.

(Catalog of Federal Domestic Assistance Numbers 59002 and 59008)

Herbert L. Mitchell,
Associate Administrator for Disaster Assistance.

[FR Doc. E7-10386 Filed 5-30-07; 8:45 am]

BILLING CODE 8025-01-P